DEPARTMENT OF STATE

[Public Notice 3234]

Shipping Coordinating Committee Subcommittee on Safety of Life at Sea; Working Group on Safety of Navigation Notice of Meeting

There will be two meetings hosted by the Shipping Coordinating Committee. They are as follows:

The Working Group on Safety of Navigation of the Subcommittee on Safety of Life at Sea (SOLAS) will conduct an open meeting at 9:30 AM on Wednesday, April 12, 2000, in room 6103, U. S. Coast Guard Headquarters, 2100 Second Street, S.W., Washington, DC.

The purpose of the meeting is to prepare for the 46th session of the Subcommittee on Safety of Navigation (NAV) of the International Maritime Organization (IMO) which is scheduled for July 10—14, 2000, at the IMO Headquarters in London.

Items of principal interest on the agenda are:

—Routing of ships, ship reporting and related matters;

—Amendments to the International Regulations for Prevention of Collisions at Sea, 1972 (72 COLREGS);

—Integrated bridge systems (IBS) operational aspects;

—Guidelines on ergonomic criteria for bridge equipment and layout;

—Navigational aids and related matters;

—International Telecommunication Union (ITU) matters, including Radiocommunication ITU-R Study Group 8;

—IMO Standard Marine Communication Phrases;

—Guidelines relating to SOLAS chapter V;

—Comprehensive review of chapter 13 of the High Speed Craft (HSC) Code;

—Development of guidelines for ships operating in ice-covered waters.

Members of the public may attend these meetings up to the seating capacity of the room. Interested persons may seek information by writing: Mr. Edward J. LaRue, Jr., U.S. Coast Guard (G-MWV-3), Room 1407, 2100 Second Street SW, Washington, DC 20593-0001 or by calling: (202) 267-0416.

The U.S. Shipping Coordinating Committee (SHC) will conduct an open meeting at 10:00 am., on Tuesday, April 18, 2000, in Room 2415 at U.S. Coast Guard Headquarters, 2100 Second Street, SW., Washington, DC. The purpose of this meeting is to report the results of Eighty-first Session of the International Maritime Organization Legal Committee (LEG 81) being held from March 27-31, 2000, in London.

During LEG 81, the Legal Committee will complete the preparation of the draft bunkers convention for a diplomatic conference, which will be held in the 2000-2001 biennium. The Legal Committee will then continue work on a draft protocol to the Athens Convention and on the draft Wreck Removal Convention. The committee will next turn its' attention to the implementation of the HNS Convention, and time will also be allotted to address any other issues on the Legal Committee's work program on which there are questions or comments.

Members of the public are invited to attend the SHC meeting, up to the seating capacity of the room. For further information, or to submit views in advance of meeting, please contact Captain Malcolm J. Williams, Jr., or Lieutenant Daniel J. Goettle, U.S. Coast Guard, Office of Maritime and International Law (G-LMI), 2100 Second Street SW, Washington, DC 20593-0001; telephone (202) 267-1527; fax (202) 267-4496.

Dated: March 20, 2000.
Stephen M. Miller,
Executive Secretary, Shipping Coordinating Committee U.S. Department of State 3.

[FR Doc. 00-7612 Filed 3-27-00; 8:45 am]

BILLING CODE 4710-07-U